DEPARTMENT OF JUSTICE

Drug Enforcement Administration

[DEA-217N]

RIN 1117-AA60

Electronic Orders for Controlled Substances: Notice of Meeting

AGENCY: Drug Enforcement Administration (DEA), Justice.

ACTION: Notice of meeting.

SUMMARY: The Drug Enforcement Administration (DEA) will hold a public meeting to provide technical details regarding the use of digital signatures and Public Key Infrastructure (PKI) technology within DEA's proposed system for electronic orders for Schedule I and II controlled substances.

DATES: Thursday, July 24, 2003.

ADDRESSES: Marriott Residence Inn, 550 Army-Navy Drive, Arlington, Virginia 22202. The meeting will be held from 9 a.m. until 4:30 p.m.

Persons wishing to attend this meeting, space permitting, must provide attendee information to the Liaison and Policy Section, Office of Diversion Control, Drug Enforcement Administration, via facsimile at (202) 307-8570 as specified below. Persons wishing to attend the meeting must provide this information to the Liaison and Policy Section no later than July 21, 2003.

FOR FURTHER INFORMATION CONTACT: Patricia M. Good, Chief, Liaison and Policy Section, Office of Diversion Control, Drug Enforcement Administration, Washington, DC 20537, Telephone (202) 307-7297.

SUPPLEMENTARY INFORMATION:

Background

In a separate Notice of Proposed Rulemaking published in today's Federal Register, the Drug Enforcement Administration (DEA) is proposing regulations regarding the electronic transmission of Schedule I and II controlled substances orders from purchasers (DEA-registered distributors, pharmacies and practitioners) to suppliers (DEA-registered manufacturers and distributors) and the electronic retention of records pertaining to those orders. DEA is proposing that these electronic orders be conducted using Public Key Infrastructure (PKI) technology, including the use of digital certificates provided by the DEA root Certification Authority.

This meeting is being held to provide information to interested persons including systems vendors and developers regarding industry's development of electronic systems which conform to the standards and regulations DEA is proposing. Persons interested in learning about the development of such PKI-based systems using DEA's standards may attend this meeting, so long as space permits.

Background and Supporting Documents

Supporting documents regarding DEA's system to permit the electronic transmission of Schedule I and II controlled substances orders and the electronic retention of records pertaining to those orders, including the Certificate Policy, Certificate Profile, enrollment documents, PKI test suite and other pertinent materials may be found within the Electronic Commerce Initiatives/CSOS section on the Diversion Control Program Web site: http://www.deadiversion.usdoj.gov/ecomm/index.html.

Meeting Registration

Persons wishing to attend this meeting must provide the following information to the Liaison and Policy Section, Office of Diversion Control, Drug Enforcement Administration, via facsimile at the number listed above:

Name:

Title:

Company/Organization:

Address:

Telephone:

E-mail address:

Dated: June 20, 2003.
Laura M. Nagel,
Deputy Assistant Administrator, Office of Diversion Control.

[FR Doc. 03-16083 Filed 6-26-03; 8:45 am]

BILLING CODE 4410-09-P